DEPARTMENT OF THE INTERIOR

Bureau of Land Management

[MT-921-06-1320-EL-P; MTM 95451]

Notice of Invitation—Coal Exploration License Application MTM 95451

AGENCY: Bureau of Land Management, Interior.

ACTION: Notice.

SUMMARY: Members of the public are hereby invited to participate with Western Energy Company in a program for the exploration of coal deposits owned by the United States of America in lands located in Treasure and Rosebud Counties, Montana, encompassing 548.17 acres.

FOR FURTHER INFORMATION CONTACT: Robert Giovanini, Mining Engineer, or Connie Schaff, Land Law Examiner, Branch of Solid Minerals (MT-921), Bureau of Land Management (BLM), Montana State Office, Billings, Montana 59101-4669, telephone (406) 896-5084 or (406) 896-5060, respectively.

SUPPLEMENTARY INFORMATION: The lands to be explored for coal deposits are described as follows:

T. 2 N., R. 38 E., P.M.M.

Sec. 14: E½.

T. 1 N., R. 39 E., P.M.M.

Sec. 4: Lots 1, 2, 4.

T. 2 N., R. 39 E., P.M.M.

Sec. 34: W½SW¼

Any party electing to participate in this exploration program shall notify, in writing, both the State Director, BLM, 5001 Southgate Drive, Billings, Montana 59101-4669, and Western Energy Company, P.O. Box 99, Colstrip, Montana 59323. Such written notice must refer to serial number MTM 95451 and be received no later than 30 calendar days after publication of this Notice in the Federal Register or 10 calendar days after the last publication of this Notice in the Independent Press newspaper, whichever is later. This Notice will be published once a week for two (2) consecutive weeks in the Independent Press, Forsyth, Montana.

The proposed exploration program is fully described, and will be conducted pursuant to an exploration plan to be approved by the Bureau of Land Management. The exploration plan, as submitted by Western Energy Company, is available for public inspection at the BLM, 5001 Southgate Drive, Billings, Montana, during regular business hours (9 a.m. to 4 p.m.), Monday through Friday.

Dated: February 16, 2006.
Rebecca Spurgin,
Acting Chief, Branch of Solid Minerals.

[FR Doc. E6-6490 Filed 4-28-06; 8:45 am]

BILLING CODE 4310-$$-P